SMALL BUSINESS ADMINISNTRATION

Data Collection Available for Public Comments

ACTION: 60-Day notice and request for comments.

SUMMARY: The Small Business Administration (SBA) intends to request approval from the Office of Management and Budget (OMB) for a revision to the collection of information in SBA Form 1919, “SBA 7(a) Borrower Information Form—For use with all 7(a) Programs”, described below. The Paperwork Reduction Act (PRA) requires federal agencies to publish a notice in the Federal Register concerning each proposed collection of information before submission to OMB, and to allow 60 days for public comment in response to the notice. This notice complies with that requirement.

DATES: Submit comments on or before May 30, 2025.

ADDRESSES: Send all comments to Robert Carpenter, Financial Analyst, 7(a) Loan Origination Division, Office of Financial Assistance, Small Business Administration, 409 3rd Street, Washington, DC 20416.

FOR FURTHER INFORMATION CONTACT: Robert Carpenter, Financial Analyst, 7(a) Loan Origination Division, Office of Financial Assistance, robert.carpenter@sba.gov, 202-205-7654, or Curtis B. Rich, Agency Clearance Officer, 202-205-7030, curtis.rich@sba.gov. A copy of the revised Form 1919 may be obtained without charge by request to robert.carpenter@sba.gov.

SUPPLEMENTARY INFORMATION: SBA is proposing to update SBA Form 1919 to conform to Administration priorities, Executive Orders, and program updates, including but not limited to adding a collection for Applicants who operate under a franchise agreement to enter the name and the SBA Franchise Identifier Code for the franchise. SBA will provide a link to the SBA Franchise Directory so the Applicant may easily locate the appropriate Franchise Identifier Code. SBA intends to revise the “Applicant Ownership (Mandatory) and Demographic Information” section, to revise the instructional paragraph for the Applicant to identify 100% of the Beneficial Owners of the Applicant, and all Beneficial Owners who hold Lawful Permanent Resident (LPR) status, regardless of the percentage of their ownership interest, and provide their alien registration number (ARN) or equivalent. A Beneficial Owner is an individual or entity who owns the business directly or indirectly through another entity.

SBA intends to add new information inputs in the Applicant Ownership and Demographic Information section for the date of birth of the Beneficial Owner, the citizenship status of the Beneficial Owner, the alien registration number of the Beneficial Owners who are not U.S. citizens or U.S. Nationals, but hold Lawful Permanent Resident status with the U.S. Citizenship and Immigration Services (USCIS), and spouse's name if the spouse is also a Beneficial Owner of the Applicant or Operating Company (OC). SBA intends to add additional Certifications that 100% of the Beneficial Ownership in the Applicant and Operating Company is held by citizens of the United States, U.S. Nationals, or individuals who are Lawful Permanent Residents (LPRs). SBA also intends to add a certification that the Applicant is located and primarily operates in the United States (including its territories and possessions), is authorized to conduct business in the state, territory, or possession where it seeks SBA financial assistance, pays taxes to the United States, and to the extent practicable, purchase only American-made equipment and products with the proceeds of the SBA loan.

SBA intends to revise the language in the questions and certifications in the form to align with the recent changes to the regulatory and procedural requirements for the 7(a) guaranty loan program. Additionally, SBA intends to revise the instructions for completing this form section to provide additional instruction and clarity for NAICS codes, purpose of the loan, and Applicant's Ownership information.

SBA also intends to update the definitions section of the form to include the definitions for “Associate”, “Beneficial Owner”, “Eligible Passive Company”, and “Operating Company”.

The proposed changes are made to comply with Administration priorities and Program updates as well as recent Executive Orders including 14159, “Protecting the American People Against Invasion”, issued January 20, 2025, and SBA Policy Notice 5000-865754, “Policy updates to comply with Executive Order 14159 regarding citizenship requirements for obtaining 7(a) and 504 loans”, published March 7, 2025, and to improve the instructional guidance in the form.

Solicitation of Public Comments

SBA is seeking to amend Form 1919 to conform to Administration priorities, Executive Orders, and program updates, and to improve the clarity of the questions and instructions. SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0348.

Title: SBA 7(a) Borrower Information Form—For use with all SBA 7(a) Loan Programs.

Description of Respondents: Small Business 7(a) Loan Applicants.

Form Number: SBA Form 1919.

Total Estimated Annual Responses: 69,236.

Total Estimated Annual Hour Burden: 39,233.7 hours.

Curtis Rich,
Agency Clearance Officer.

[FR Doc. 2025-05441 Filed 3-28-25; 8:45 am]

BILLING CODE 8026-09-P